DEPARTMENT OF ENERGY

Federal Energy Regulatory Commission

[Project No. 14563-000]

Archon Energy 1, Inc.; Notice of Preliminary Permit Application Accepted for Filing and Soliciting Comments, Motions To Intervene, and Competing Applications

On November 12, 2013, and February 7, 2014, Archon Energy 1, Inc. (Archon) filed and amended, respectively, an application for a preliminary permit, pursuant to section 4(f) of the Federal Power Act, proposing to study the feasibility of the proposed Purisima Point Wave Park Project (project). The proposed project would be developed in a phased approach. Under a potential pilot project license, installation of several wave energy converter units would have a capacity of 5-10 megawatts (MW). Under a commercial license, a proposed project would consist of thirty-three 3-MW wave energy converter units with a capacity of 100 MW. The proposed project would have a maximum potential of 500 MW with installation of additional wave energy converter units. The requested project boundary comprises approximately 12 to 15 square nautical miles of coastal waters and lands located along the coast of Santa Barbara County, California, near the Vandenberg Air Force Base.

The sole purpose of a preliminary permit, if issued, is to grant the permit holder priority to file a license application during the permit term. A preliminary permit does not authorize the permit holder to perform any land disturbing or construction activities or to otherwise enter upon lands or waters owned by others without the owners' express permission.

Applicant Contact: Paul J. Grist, Archon Energy 1, Inc., 101 East Kennedy Blvd., Suite 2800, Tampa, FL 33602; (415) 377-2460.

FERC Contact: Jim Hastreiter, (503) 552-2760.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site (http://www.ferc.gov/docs-filing/ferconline.asp) under the “eFiling” link.

For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and 5 copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-14563) in the docket number field to access the document. For assistance, contact FERC Online Support.

Dated: February 14, 2014.
Kimberly D. Bose,
Secretary.

[FR Doc. 2014-03802 Filed 2-21-14; 8:45 am]

BILLING CODE 6717-01-P